DEPARTMENT OF THE INTERIOR

Bureau of Land Management

[CO-956-1420-BJ-0000-241A]

Colorado: Filing of Plats of Survey

April 4, 2001.

The plats of survey of the following described land will be officially filed in the Colorado State Office, Bureau of Land Management, Lakewood, Colorado, effective 10:00 am., April 4, 2001. All inquiries should be sent to the Colorado State Office, Bureau of Land Management, 2850 Youngfield Street, Lakewood, Colorado 80215-7093.

The plat representing the dependent resurvey of the subdivision of certain sections, T 33 N., R. 10 W., New Mexico Principal Meridian, Group 1064, Colorado, was accepted January 22, 2001.

This survey was requested by the Bureau of Indian Affairs for administrative purposes.

The plat (in two sheets) representing the dependent resurvey of a portion of the subdivisional lines, and the subdivision of certain sections, and an informative traverse of the center line of a road in Mesa County, Colorado, by the Bureau of Land Management, and referred to as Case No. COC-59085, T. 12 S., R. 98 W., Sixth Principal Meridian, Group 1256, Colorado, was accepted January 22, 2001.

The plat representing the dependent resurvey of a portion of the east and north boundaries and subdivisional lines, and the subdivision of certain sections, and an informative traverse of the center line of a road in Mesa County, Colorado, by the Bureau of Land Management, and referred to as Case No. COC-59085, T. 2 S., R. 2 E., Ute Meridian, Group 1256, Colorado, was accepted January 22, 2001.

The supplemental plat canceling lot 2 in the NE¼ of section 8, lots 5, 6, 7, and 8 in the SW¼ of section 8, and lot 1 in the SE¼SW¼ of section 16, T. 33 N., R. 1 E., New Mexico Principal Meridian, Colorado, that were erroneously created on the plat approved December 28, 1993, under Group 942, Colorado, was accepted February 1, 2001.

The plat representing the dependent resurvey of a portion of the Twelfth Guide Meridian West (east boundary), north boundary, subdivisional lines, and a portion of the metes-and-bounds survey of certain claim lines, and the subdivision of certain sections, T. 3 N., R. 101 W., Sixth Principal Meridian, Group 1211 Colorado, was accepted February 7, 2001.

The plat representing the dependent resurvey of a portion of the subdivisional lines, and the subdivision of sections 34 and 35, T. 4 N., R. 101 W., Sixth Principal Meridian, Group 1211, Colorado, was accepted February 7, 2001.

The plat representing the dependent resurvey of a portion of the subdivisional lines, and the subdivision of section 7, T. 4 S., R. 100 W., Sixth Principal Meridian, Group 1257, Colorado, was accepted February 13, 2001.

The plat representing the dependent resurvey of a portion of the subdivisional lines, and the subdivision of certain sections, T. 16 S., R. 70 W., Sixth Principal Meridian, Group 1039, Colorado, was accepted February 21, 2001.

The supplemental plat creating new lots 97 and 98 in section 5 of T. 1 N., R. 71 W., Sixth Principal Meridian, Colorado, was accepted February 27, 2001. This plat is based upon the survey plat approved July 24, 1875, the dependent resurvey plat approved November 16, 1942, and the supplemental plats approved December 13, 1938, October 15, 1997, and the official records of the following mineral claims: MS 16550, Ibach placer, approved May 31, 1904, MS 18083, Ethel A., approved December 20, 1906, and MS 18702, Red Rock, approved December 31, 1908.

The plat (in two sheets) representing the dependent resurvey of portions of certain mineral claims, T. 44 N., R. 4 W., and suspended T. 44 N., R. 5 W., New Mexico Principal Meridian, Group 1238, Colorado, was accepted March 15, 2001.

The plat (in two sheets) representing the dependent resurvey of certain mineral claims, or portions thereof, suspended T. 43 N., R. 6 W., New Mexico Principal Meridian, Group 1238, Colorado, was accepted March 15, 2001.

The supplemental plat creating new lots in sections 8 and 9 of T. 1 N., R. 71 W., Sixth Principal Meridian, Colorado, was accepted March 8, 2001. This plat is based upon the dependent resurvey plat approved November 16, 1942, and the supplemental plats approved December 31, 1931 and May 8, 1933, and the official records of the following mineral claims: MS 12460, Blackbird, approved April 26, 1898, MS 14836, Queen of the West, approved July 27, 1901, MS 15211, Minnie Bell, Minnie Bell No. 2, and Monitor, approved January 30, 1902, MS 16100, New and Gold Leaf, amended plat September 12, 1902, MS 18693, Ella C. and Norma Belle, approved December 22, 1908, and MS 20375, Orphan, approved September 29, 1928.

These surveys were requested by the Bureau of Land Management for administrative purposes.

Darryl A. Wilson,
Chief Cadastral Surveyor for Colorado.

[FR Doc. 01-9440 Filed 4-16-01; 8:45 am]

BILLING CODE 4310-JB-P